COMMITTEE FOR PURCHASE FROM PEOPLE WHO ARE BLIND OR SEVERELY DISABLED

Procurement List; Proposed Deletions

AGENCY: Committee for Purchase From People Who Are Blind or Severely Disabled.

ACTION: Deletions from the Procurement List.

SUMMARY: The Committee is proposing to delete product(s) and service(s) from the Procurement List that were furnished by nonprofit agencies employing persons who are blind or have other severe disabilities.

DATES: Comments must be received on or before: June 08, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

8115-00-NSH-0277—Crate, Wood, Style A

8115-00-NSH-0278—Crate, Wood, Style B-4

8115-00-NSH-0279—Crate, Wood, Style 1, Style 1 with 3/8″ Sides and Ends

8115-00-NSH-0280—Crate, Wood, Style 1 with 1″ Sides and Ends

8115-00-NSH-0281—Crate, Wood, Style 2

8115-00-NSH-0282—Crate, Wood, Style 4

8115-00-NSH-0283—Crate, Wood, Style 104

Mandatory Source of Supply: Knox County Association for Remarkable Citizens, Inc., Vincennes, IN

Contracting Activity: NSWC CRANE, CRANE, IN

NSN(s)—Product Name(s): 8430-00-NSH-0002—Snowshoes, Assault, Cramp-on, Marine Corps, Black, Royal Blue, and Plum

Authorized Source of Supply: PRIDE Industries, Roseville, CA

Contracting Activity: W6QK ACC-APG NATICK, NATICK, MA

NSN(s)—Product Name(s):

8340-00-NSH-0002—Rainfly, Shelter, Complete, Olive Drab

8340-00-NSH-0003—Rainfly, Shelter, Complete, Tan

8340-00-NSH-0005—Spare Parts Kit, Shelter, Complete

Authorized Source of Supply: ORC Industries, Inc., La Crosse, WI

Contracting Activity: COMMANDER, QUANTICO, VA

NSN(s)—Product Name(s): 7690-00-NSH-0078—Microfiche of FAA Directives & Advisory Circulars

Authorized Source of Supply: Alliance, Inc., Baltimore, MD

Contracting Activity: Government Printing Office, Washington, DC

NSN(s)—Product Name(s):

8405-00-001-1547—Parka, Rain Suit for Wet Weather, Army, Woodland Camouflage Green, Brown, Black, XS

8405-00-001-1548—Parka, Rain Suit for Wet Weather, Army, Woodland Camouflage Green, Brown, Black, Small

8405-00-001-1549—Parka, Rain Suit for Wet Weather, Army, Woodland Camouflage Green, Brown, Black, Medium

8405-00-001-1550—Parka, Rain Suit for Wet Weather, Army, Woodland Camouflage Green, Brown, Black, Large

8405-00-001-1551—Parka, Rain Suit for Wet Weather, Army, Woodland Camouflage Green, Brown, Black, X Large

8405-01-053-9202—Parka, Rain Suit for Wet Weather, with Hood, Army, Woodland Camouflage, XXS

8405-00-001-8025—Trousers, Wet Weather, Army, Men's, Woodland Camouflage Green, Brown, Black, XS

8405-00-001-8026—Trousers, Wet Weather, Army, Men's, Woodland Camouflage Green, Brown, Black, Small

8405-00-001-8027—Trousers, Wet Weather, Army, Men's, Woodland Camouflage Green, Brown, Black, Medium

8405-00-001-8028—Trousers, Wet Weather, Army, Men's, Woodland Camouflage Green, Brown, Black, Large

8405-00-001-8029—Trousers, Wet Weather, Army, Men's, Woodland Camouflage Green, Brown, Black, X Large

Authorized Source of Supply: ORC Industries, Inc., La Crosse, WI

Contracting Activity: DLA TROOP SUPPORT, PHILADELPHIA, PA

NSN(s)—Product Name(s):

8415-01-443-9176—Vest, Load Bearing Equipment

PART NO 3505-06-115—Pouch, 40mm 2round

PART NO 3505-06-114—Pad, Belt

PART NO 3505-06-107—D-Ring Assembly

PART NO 3505-06-106—Vest, Front & Back Co

PART NO 3505-06-105—Panel, Vest, Right

PART NO 3505-06-104—Panel, Vest, Left

PART NO 3505-06-103—Pad, Shoulder Assembly

PART NO 3505-06-102—Panel, Back

8415-01-440-9528—Vest Assembly

8465-01-440-5885—Pouch, 3Pocket, 40mm

8465-01-440-9529—Pad, Leg

8465-01-440-9530—Pouch, Utility, Medium

8465-01-440-9538—Pouch, Utility, Small

Authorized Source of Supply: Chautauqua County Chapter, NYSARC, Jamestown, NY

Contracting Activity: COMMANDER, QUANTICO, VA

NSN(s)—Product Name(s): 1440-01-132-9719—Kit, Tiedown, Guided Missile

Authorized Source of Supply: Huntsville Rehabilitation Foundation, Inc., Huntsville, AL

Contracting Activity: DLA AVIATION, RICHMOND, VA

NSN(s)—Product Name(s):

5340-00-460-4522—Clamp, Loop, CRES, Teflon-Asbestos, 203/250″ Loop x 1/2″ Wide

5340-00-460-4524—Clamp, Loop, CRES, Teflon-Asbestos, 86/125″ Loop x 1/2″ Wide

5340-00-562-2947—Clamp, Loop, CRES, Teflon-Asbestos, 1-47/250″ Loop x 1/2″ Wide

5340-01-018-8983—Clamp, Loop, CRES, Teflon-Asbestos, 1-39/125″ Loop x 1/2″ Wide

Authorized Source of Supply: Skookum Educational Programs, Bremerton, WA

Contracting Activity: DLA LAND AND MARITIME, COLUMBUS, OH

NSN(s)—Product Name(s):

8415-00-NSH-0051—Hood, Disposable

8415-00-NSH-0052—Cap, Disposable

Authorized Source of Supply: TradeWinds Services, Inc., Merrillville, IN

Contracting Activity: NAVSUP FLT LOG CTR PUGET SOUND, BREMERTON, WA

NSN(s)—Product Name(s):

6645-04-000-3337—Clock, Wall, Slimline, Black, Postal Service Logo, 12 3/4″ Quartz

6645-04-000-3338—Clock, Wall, Slimline, Brown, Postal Service Logo, 12 3/4″ Quartz

6645-04-000-3343—Clock, Wall, Mahogany, Postal Service Logo, 16″ Quartz

6645-04-000-4266—Clock, Wall, 12/24 Hour, Bronze, Postal Service Logo, 12 3/4″ Slimline Quartz

Authorized Source of Supply: Chicago Lighthouse Industries, Chicago, IL

Contracting Activity: U.S. Postal Service, Washington, DC

NSN(s)—Product Name(s): 3920-02-000-1916—Strip, Door

Authorized Source of Supply: Rauch, Inc., New Albany, IN

Contracting Activity: USPS, Topeka Purchasing Center, Topeka, KS

NSN(s)—Product Name(s): 3990-00-NSH-0074—Pallet, 4-Way Speciality

Authorized Source of Supply: Northeastern Michigan Rehabilitation and Opportunity Center (NEMROC), Alpena, MI

Contracting Activity: FA7014 AFDW PK, ANDREWS AFB, MD

NSN(s)—Product Name(s): 2920-01-151-3627—Glow Plug, Diesel

Authorized Source of Supply: Shares, Inc., Shelbyville, IN

Contracting Activity: DLA LAND AND MARITIME, COLUMBUS, OH

NSN(s)—Product Name(s):

8415-01-552-5547—Shirt, T, Cold Weather Anti Microbial Combat Level 1, PCU, Army, Brown, XXL

8415-01-552-5535—Shirt, T, Cold Weather Anti Microbial Combat Level 1, PCU, Army, Brown, XS

8415-01-552-5536—Shirt, T, Cold Weather Anti Microbial Combat Level 1, PCU, Army, Brown, S

8415-01-552-5537—Shirt, T, Cold Weather Anti Microbial Combat Level 1, PCU, Army, Brown, M

8415-01-552-5538—Shirt, T, Cold Weather Anti Microbial Combat Level 1, PCU, Army, Brown, ML

8415-01-552-5540—Shirt, T, Cold Weather Anti Microbial Combat Level 1, PCU, Army, Brown, L

8415-01-552-5542—Shirt, T, Cold Weather Anti Microbial Combat Level 1, PCU, Army, Brown, LL

8415-01-552-5543—Shirt, T, Cold Weather Anti Microbial Combat Level 1, PCU, Army, Brown, XLL

8415-01-552-5544—Shirt, T, Cold Weather Anti Microbial Combat Level 1, PCU, Army, Brown, XL

8415-01-552-5546—Shirt, T, Cold Weather Anti Microbial Combat Level 1, PCU, Army, Brown, XXLL

8415-01-552-5549—Shirt, T, Cold Weather Anti Microbial Combat Level 1, PCU, Army, Brown, XXXL

8415-01-552-5551—Shirt, T, Cold Weather Anti Microbial Combat Level 1, PCU, Army, Brown, XXXLL

8415-01-552-5635—Drawers, Boxer, Extreme Cold Weather Anti Microbial Level 1, PCU, Army, Brown, XS

8415-01-552-5637—Drawers, Boxer, Extreme Cold Weather Anti Microbial Level 1, PCU, Army, Brown, X

8415-01-552-5641—Drawers, Boxer, Extreme Cold Weather Anti Microbial Level 1, PCU, Army, Brown, M

8415-01-552-5640—Drawers, Boxer, Extreme Cold Weather Anti Microbial Level 1, PCU, Army, Brown, ML

8415-01-552-5642—Drawers, Boxer, Extreme Cold Weather Anti Microbial Level 1, PCU, Army, Brown, L

8415-01-552-5622—Drawers, Boxer, Extreme Cold Weather Anti Microbial Level 1, PCU, Army, Brown, LL

8415-01-552-5626—Drawers, Boxer, Extreme Cold Weather Anti Microbial Level 1, PCU, Army, Brown, XLL

8415-01-552-5628—Drawers, Boxer, Extreme Cold Weather Anti Microbial Level 1, PCU, Army, Brown, XLLXL

8415-01-552-5644—Drawers, Boxer, Extreme Cold Weather Anti Microbial Level 1, PCU, Army, Brown, XXLL

8415-01-552-5625—Drawers, Boxer, Extreme Cold Weather Anti Microbial Level 1, PCU, Army, Brown, XL

8415-01-552-5631—Drawers, Boxer, Extreme Cold Weather Anti Microbial Level 1, PCU, Army, Brown, XXXL-R

8415-01-552-5634—Drawers, Boxer, Extreme Cold Weather Anti Microbial Level 1, PCU, Army, Brown, XXXLL

8415-01-535-7843—Drawers, Boxer Shorts, Level 1, PCU, Army, Brown, XXL

Authorized Source of Supply: Southeastern Kentucky Rehabilitation Industries, Inc., Corbin, KY

Authorized Source of Supply: Knox County Association for Remarkable Citizens, Inc., Vincennes, IN

Contracting Activity: W6QK ACC-APG NATICK, NATICK, MA

NSN(s)—Product Name(s): 7530-00-138-9919—Paper, Tabulating Machine

Authorized Source of Supply: Association for Vision Rehabilitation and Employment, Inc., Binghamton, NY

Contracting Activity: SOCIAL SECURITY ADMINISTRATION, BALTIMORE, MD

NSN(s)—Product Name(s): 5340-01-105-1002—Strap, Webbing, 6″ x 1″

Authorized Source of Supply: The Charles Lea Center, Inc., Spartanburg, SC

Contracting Activity: DLA LAND AND MARITIME, COLUMBUS, OH

NSN(s)—Product Name(s): 620003501N—Desk Lamp, LED, Wireless and USB Charging, Black

Authorized Source of Supply: Chicago Lighthouse Industries, Chicago, IL

Contracting Activity: GSA/FAS FURNITURE SYSTEMS MGT DIV, PHILADELPHIA, PA

NSN(s)—Product Name(s): 6515-00-383-0565—Tourniquet, Non-Pneumatic

Authorized Source of Supply: Blind And Vision Rehabilitation Services Of Pittsburgh, Pittsburgh, PA

Contracting Activity: DLA TROOP SUPPORT, PHILADELPHIA, PA

NSN(s)—Product Name(s):

8415-01-327-5296—Coat, Combat Type VII, Army, Desert Camouflage, X Small X Short

8415-01-327-5297—Coat, Combat Type VII, Army, Desert Camouflage, X Small/Short

8415-01-327-5298—Coat, Combat Type VII, Army, Desert Camouflage, X Small/Regular

8415-01-327-5299—Coat, Combat Type VII, Army, Desert Camouflage, Small/XX Short

8415-01-327-5300—Coat, Combat Type VII, Army, Desert Camouflage, Small X Short

8415-01-327-5301—Coat, Combat Type VII, Army, Desert Camouflage, Small Short

8415-01-327-5302—Coat, Combat Type VII, Army, Desert Camouflage, Small Regular

8415-01-327-5303—Coat, Combat Type VII, Army, Desert Camouflage, Small Long

8415-01-327-5304—Coat, Combat Type VII, Army, Desert Camouflage, Small X Long

8415-01-327-5305—Coat, Combat Type VII, Army, Desert Camouflage, Medium/XX Short

8415-01-327-5306—Coat, Combat Type VII, Army, Desert Camouflage, Medium/X Short

8415-01-327-5307—Coat, Combat Type VII, Army, Desert Camouflage, Medium/Short

8415-01-327-5308—Coat, Combat Type VII, Army, Desert Camouflage, Medium/Regular

8415-01-327-5309—Coat, Combat Type VII, Army, Desert Camouflage, Medium/Long

8415-01-327-5310—Coat, Combat Type VII, Army, Desert Camouflage, Medium/X Long

8415-01-327-5311—Coat, Combat Type VII, Army, Desert Camouflage, Large/X Short

8415-01-327-5312—Coat, Combat Type VII, Army, Desert Camouflage, Large/Short

8415-01-327-5313—Coat, Combat Type VII, Army, Desert Camouflage, Large/Regular

8415-01-327-5314—Coat, Combat Type VII, Army, Desert Camouflage, Large/Long

8415-01-327-5315—Coat, Combat Type VII, Army, Desert Camouflage, Large/X Long

8415-01-327-5316—Coat, Combat Type VII, Army, Desert Camouflage, X Large/Regular

8415-01-327-5317—Coat, Combat Type VII, Army, Desert Camouflage, X Large/Long

Authorized Source of Supply: ReadyOne Industries, Inc., El Paso, TX

Contracting Activity: DLA TROOP SUPPORT, PHILADELPHIA, PA

NSN(s)—Product Name(s):

8415-01-472-6867—Overalls, Bib, Cold Weather, Fleece, Army, Black, XSSR

8415-01-472-6908—Overalls, Bib, Cold Weather, Fleece, Army, Black, XSL

8415-01-472-6909—Overalls, Bib, Cold Weather, Fleece, Army, Black, SSR

8415-01-472-6911—Overalls, Bib, Cold Weather, Fleece, Army, Black, SL

8415-01-472-6912—Overalls, Bib, Cold Weather, Fleece, Army, Black, MSR

8415-01-472-6914—Overalls, Bib, Cold Weather, Fleece, Army, Black, ML

8415-01-472-6915—Overalls, Bib, Cold Weather, Fleece, Army, Black, LSR

8415-01-472-6916—Overalls, Bib, Cold Weather, Fleece, Army, Black, LL

8415-01-472-6917—Overalls, Bib, Cold Weather, Fleece, Army, Black, XLSR

8415-01-472-6918—Overalls, Bib, Cold Weather, Fleece, Army, Black, XLL

Authorized Source of Supply: ReadyOne Industries, Inc., El Paso, TX

Authorized Source of Supply: Peckham Vocational Industries, Inc., Lansing, MI

Contracting Activity: DLA TROOP SUPPORT, PHILADELPHIA, PA

NSN(s)—Product Name(s):

8415-01-501-6888—Drawers, Lightweight Extreme Cold Weather, SPEAR, Army, Unisex, Ankle Length, Black, SR

8415-01-501-6891—Drawers, Lightweight Extreme Cold Weather, SPEAR, Army, Unisex, Ankle Length, Black, MR

8415-01-501-6892—Drawers, Lightweight Extreme Cold Weather, SPEAR, Army, Unisex, Ankle Length, Black, LR

8415-01-501-6894—Drawers, Lightweight Extreme Cold Weather, SPEAR, Army, Unisex, Ankle Length, Black, LL

8415-01-501-6896—Drawers, Lightweight Extreme Cold Weather, SPEAR, Army, Unisex, Ankle Length, Black, XLR

8415-01-501-6897—Drawers, Lightweight Extreme Cold Weather, SPEAR, Army, Unisex, Ankle Length, Black, XLL

8415-01-501-7074—Shirt, Underwear, Lightweight Extreme Cold Weather, SPEAR, Army, Unisex, Black, SR

8415-01-501-7075—Shirt, Underwear, Lightweight Extreme Cold Weather, SPEAR, Army, Unisex, Black, MR

8415-01-501-7077—Shirt, Underwear, Lightweight Extreme Cold Weather, SPEAR, Army, Unisex, Black, LR

8415-01-501-7108—Shirt, Underwear, Lightweight Extreme Cold Weather, SPEAR, Army, Unisex, Black, LL

8415-01-501-7113—Shirt, Underwear, Lightweight Extreme Cold Weather, SPEAR, Army, Unisex, Black, XLR

8415-01-501-7114—Shirt, Underwear, Lightweight Extreme Cold Weather, SPEAR, Army, Unisex, Black, XLL

8415-01-502-3981—Overalls, Bib, Stretch, SPEAR, Army, Unisex, Green, SR

8415-01-502-3984—Stretch Fleece Bib Overall, Size Medium Regular

8415-01-502-4029—Overalls, Bib, Stretch, SPEAR, Army, Unisex, Green, LR

8415-01-502-4030—Overalls, Bib, Stretch, SPEAR, Army, Unisex, Green, LL

8415-01-502-4031—Overalls, Bib, Stretch, SPEAR, Army, Unisex, Green, XLR

8415-01-502-4032—Overalls, Bib, Stretch, SPEAR, Army, Unisex, Green, XLL

Authorized Source of Supply: Peckham Vocational Industries, Inc., Lansing, MI

Contracting Activity: DLA TROOP SUPPORT, PHILADELPHIA, PA

Service(s)

Service Type: Office Supply Store

Mandatory for: Federal Building: 700 W Capitol, Little Rock, AR

Authorized Source of Supply: The Arkansas Lighthouse for the Blind, Little Rock, AR

Contracting Activity: GENERAL SERVICES ADMINISTRATION, FPDS AGENCY COORDINATOR

Service Type: Furniture Design, Configuration and Installation

Mandatory for: U.S. Department of Interior, Bureau of Land Management, National Operations Center, Denver, CO

Authorized Source of Supply: Industries for the Blind and Visually Impaired, Inc., West Allis, WI

Contracting Activity: DEPARTMENTAL OFFICES, IBC ACQ SVCS DIRECTORATE (00004)

Service Type: Janitorial/Custodial

Mandatory for: US Army Corps of Engineers, Missouri River Area Office, Napoleon, MO

Contracting Activity: DEPT OF THE ARMY, W071 ENDIST, KANSAS CITY

Service Type: Shelf Stocking & Custodial

Mandatory for: Redstone Arsenal (Provide specified end items produced through Huntsville, AL)

Authorized Source of Supply: Alabama Goodwill Industries, Inc., Birmingham, AL

Contracting Activity: DEFENSE COMMISSARY AGENCY (DECA), DEFENSE COMMISSARY AGENCY

Service Type: Janitorial and Related Services

Mandatory for: FAA, Air Traffic Control Tower, Youngstown Municipal Airport, Vienna, OH

Authorized Source of Supply: VGS, Inc., Cleveland, OH

Contracting Activity: FEDERAL AVIATION ADMINISTRATION, 697DCK REGIONAL ACQUISITIONS SVCS

Service Type: Switchboard Operation

Mandatory for: Department of Housing and Urban Development, Headquarters, Washington, DC

Authorized Source of Supply: ServiceSource, Inc., Oakton, VA

Contracting Activity: AGENCY_NAME, CPO: PHILADELPHIA OPERATIONS BRANCH

Service Type: Grounds Maintenance and Switchboard Operations

Mandatory for: Department of Veterans Affairs, Lake City VA Medical Center, Lake City, FL

Authorized Source of Supply: CARC-Advocates for Citizens with Disabilities, Inc., Lake City, FL

Contracting Activity: VETERANS AFFAIRS, DEPARTMENT OF, 248-NETWORK CONTRACT OFC 8(00248)

Michael R. Jurkowski,
Director, Business Operations.

[FR Doc. 2025-08183 Filed 5-8-25; 8:45 am]

BILLING CODE 6353-01-P